DEPARTMENT OF DEFENSE

GENERAL SERVICES ADMINISTRATION

NATIONAL AERONAUTICS AND SPACE ADMINISTRATION

[OMB Control No. 9000-0205; Docket No. 2023-0053; Sequence No. 11]

Submission for OMB Review; Implementation of Federal Acquisition Supply Chain Security Act (FASCSA) Orders

AGENCY: Department of Defense (DOD), General Services Administration (GSA), and National Aeronautics and Space Administration (NASA).

ACTION: Notice.

SUMMARY: Under the provisions of the Paperwork Reduction Act, the Regulatory Secretariat Division has submitted to the Office of Management and Budget (OMB) a request to review and approve an extension of a previously approved information collection requirement regarding implementation of Federal Acquisition Supply Chain Security Act (FASCSA) Orders.

DATES: Submit comments on or before April 3, 2024.

ADDRESSES: Written comments and recommendations for this information collection should be sent within 30 days of publication of this notice to www.reginfo.gov/public/do/PRAMain. Find this particular information collection by selecting “Currently under Review—Open for Public Comments” or by using the search function.

FOR FURTHER INFORMATION CONTACT: Marissa Ryba, Procurement Analyst, at telephone 314-586-1280, or marissa.ryba@gsa.gov.

SUPPLEMENTARY INFORMATION:

A. OMB Control Number, Title, and Any Associated Form(s)

9000-0205, Implementation of Federal Acquisition Supply Chain Security Act (FASCSA) Orders.

B. Need and Uses

This clearance covers the information that offerors and contractors must submit to comply with the following FAR requirements:

a. FAR 52.204-29, Federal Acquisition Supply Chain Security Act Orders—Representation and Disclosures. This provision prohibits contractors from providing or using as part of the performance of the contract any covered article, or any products or services produced or provided by a source, if the covered article or the source is subject to an applicable FASCSA order identified in the clause at FAR 52.204-30(b)(1).

By submitting an offer, offerors are representing compliance with the prohibition. If an offeror cannot represent compliance with the prohibition, then the offeror must disclose the following information in accordance with 52.204-29(e):

(1) Name of the product or service provided to the Government;

(2) Name of the covered article or source subject to an FASCA order;

(3) If applicable, name of the vendor, including the Commercial and Government Entity code and unique entity identifier (if known), that supplied the covered article or the product or service to the Offeror;

(4) Brand;

(5) Model number (original equipment manufacturer number, manufacturer part number, or wholesaler number);

(6) Item description;

(7) Reason why the applicable covered article or the product or service is being provided;

b. FAR 52.204-30, Federal Acquisition Supply Chain Security Act Orders—Prohibition. This clause requires contractors to provide a report to the Government within 3 business days if the contractor identifies that the contractor or any-tier subcontractor, delivered or used a covered article or product or service subject to a FASCSA order. The report requires the following information:

(1) Contract number;

(2) Order number(s), if applicable;

(3) Name of the product or service provided to the Government;

(4) Name of the covered article or source subject to a FASCSA order;

(5) If applicable, name of the vendor, including the Commercial and Government Entity code and unique entity identifier (if known), that supplied the covered article or the product or service to the Contractor;

(6) Brand;

(7) Model number (original equipment manufacturer number, manufacturer part number, or wholesaler number);

(8) Item description; and

(9) Any readily available information about mitigation actions undertaken or recommended.

The contractor must also submit additional information within 10 days of submitting the first report identifying any further available information about mitigation actions undertaken or recommended. Additionally, the contractor shall describe the efforts it undertook to prevent submission and any additional efforts to prevent future submission of the covered article or the product or service produced or provided by a source subject to an applicable FASCSA order.

FAR provision 52.204-29. Information collected under will be by the government to determine whether to seek a waiver from a FASCSA order issued under the authority of the Federal Acquisition Supply Chain Security Act of 2018.

FAR clause 52.204-30 will Information collected will be used by the contracting officer working with the requirement activity to determine whether it is necessary to take further action and modify the contract.

C. Annual Burden

Respondents: 6,113.

Total Annual Responses: 1.

Total Burden Hours: 12,226.

D. Public Comment

A 60-day notice was published in the Federal Register at 88 FR 88923, on December 26, 2023. No comments were received.

Obtaining Copies: Requesters may obtain a copy of the information collection documents from the GSA Regulatory Secretariat Division, by calling 202-501-4755 or emailing GSARegSec@gsa.gov. Please cite OMB Control No. 9000-0205, Implementation of Federal Acquisition Supply Chain Security Act (FASCSA) Orders.

Janet Fry,
Director, Federal Acquisition Policy Division, Office of Governmentwide Acquisition Policy, Office of Acquisition Policy, Office of Governmentwide Policy.

[FR Doc. 2024-04505 Filed 3-1-24; 8:45 am]

BILLING CODE 6820-EP-P